RAILROAD RETIREMENT BOARD

Agency Forms Submitted for OMB Review

Summary: In accordance with the Paperwork Reduction Act of 1995 (44 U.S.C. Chapter 35), the Railroad Retirement Board (RRB) has submitted the following proposal(s) for the collection of information to the Office of Management and Budget for review and approval.

Summary of Proposal(s)

(1) Collection title: Designation of Contact Officials.

(2) Form(s) submitted: G-117a.

(3) OMB Number: 3220-NEW.

(4) Expiration date of current OMB clearance: N.A.

(5) Type of request: New collection.

(6) Respondents: Business or other for-profit.

(7) Estimated annual number of respondents: 100.

(8) Total annual responses: 100.

(9) Total annual reporting hours: 25.

(10) Collection description: The Railroad Retirement Board (RRB) requests that railroad employers designate employees to act as liaison with the RRB on a variety of Railroad Retirement Act and Railroad Unemployment Insurance Act matters.

FOR FURTHER INFORMATION CONTACT: Copies of the forms and supporting documents can be obtained by contacting Charles Mierzwa, the agency clearance officer, at (312) 751-3363 or Charles.Mierzwa@RRB.GOV.

Comments regarding the information collection should be addressed to Ronald J. Hodapp, Railroad Retirement Board, 844 North Rush Street, Chicago, Illinois, 60611-2092 or Ronald.Hodapp@RRB.GOV and to the OMB Desk Officer for the RRB, at the Office of Management and Budget, Room 10230, New Executive Office Building, Washington, DC 20503.

Charles Mierzwa,
Clearance Officer.

[FR Doc. 04-14465 Filed 6-24-04; 8:45 am]

BILLING CODE 7905-01-P